DEPARTMENT OF JUSTICE

Notice of Lodging of Consent Decree Under the Comprehensive Environmental Response, Compensation, and Liability Act

Notice is hereby given that a proposed Consent Decree with Victor A. Horne, in the case of United States v. Donald E. Horne, et al., Civil Action No. 4:05-00497, was lodged with the United States District Court for the Western District of Missouri on August 6, 2008. The United States filed the Complaint on May 27, 2005 on behalf of the Administrator of the Environmental Protection Agency pursuant to the Comprehensive Environmental Response, Compensation, and Liability Act of 1980, as amended, 42 U.S.C. 9601, et seq. (CERCLA), seeking recovery of costs incurred in responding to the release or threat of release of hazardous substances at or in connection with the Armour Road Superfund Site located at 2251 Armour Road North Kansas City, Missouri (Site). The complaint alleges claims against Victor Horne and five other defendants.

The Consent Decree referred to in this Notice addresses only the claims against Victor Horne. The Consent Decree will resolve the United States' claims against Victor Horne for the Site in return for a total payment of $2,500.00.

For thirty (30) days after the date of this publication, the Department of Justice will receive comments relating to the Consent Decree. Comments should be addressed to the Assistant Attorney General, Environment and Natural Resources Division, and either e-mailed to pubcomment-ees.enrd@usdoj.gov or mailed to P.O. Box 7611, U.S. Department of Justice, Washington, DC 20044-7611. In either case, the comments should refer to United States v. Donald E. Horne, et al., DOJ Ref. No. 90-11-3-08035/1.

The proposed consent decree may be examined at the United States Attorney's Office, Western District of Missouri, Charles Evans Whittaker Courthouse, 400 East Ninth Street, Room 5510, Kansas City, Missouri 64106, and at the Region VII Office of the Environmental Protection Agency, 901 North Fifth Street, Kansas City, Kansas 66101. During the comment period, the Consent Decree may be examined on the following Department of Justice Web site: http://www.usdoj.gov/enrd/Consent_Decrees.html. A copy of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $6.00 (25 cents per page reproduction cost) payable to the United States Treasury or, if by e-mail or fax, forward a check in that amount to the Consent Decree Library at the stated address.

Maureen Katz,
Assistant Section Chief, Environmental Enforcement Section, Environment and Natural Resources Division.

[FR Doc. E8-18547 Filed 8-11-08; 8:45 am]

BILLING CODE 4410-15-P